DEPARTMENT OF ENERGY

Federal Energy Regulatory Commission

[Docket No. CP09-4-000]

Sabine Pipe Line LLC; Notice of Request Under Blanket Authorization

October 22, 2008.

Take notice that on October 8, 2008, Sabine Pipe Line LLC (Sabine), 2400 Fournace Place, Bellaire, Texas 77401, filed in Docket No. CP09-4-000, a prior notice request pursuant to sections 157.205, 157.208, and 157.212 of the Federal Energy Regulatory Commission's regulations under the Natural Gas Act for authorization to construct, own, and operate certain facilities located at a proposed point of interconnection between Sabine and Kinder Morgan Louisiana Pipeline Company LLC (KMLP) in Calcasieu Parish, Louisiana, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, Sabine proposes to design, construct, own, and operate all of the facilities necessary to receive up to 200 MMcf/d of revaporized liquefied natural gas (LNG) from the Cheniere Sabine Pass LNG import terminal by way of a 20-inch pipeline owned and operated by KMLP. Sabine states that these facilities proposed include a 16-inch valve, 16-inch flanges, 16-inch pipe and related fittings, miscellaneous bolts, gaskets, over-pressure protection valve(s)/device(s), electronic flow measurement instrumentation, and all necessary and related telemetry devices. Sabine estimates the cost of construction to be $293,000, with all such costs to be reimbursed by KMLP.

Any questions regarding the application should be directed to Jeffrey L. Kirk, Chevron Pipe Line, 4800 Fournace Place, Bellaire, Texas 77401, at (713) 432-6753.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-25684 Filed 10-27-08; 8:45 am]

BILLING CODE 6717-01-P